DEPARTMENT OF ENERGY

Federal Energy Regulatory Commission

Combined Notice of Filings #1

Take notice that the Commission received the following electric rate filings:

Docket Numbers: ER23-391-001.

Applicants: Avista Corporation, PacifiCorp, Puget Sound Energy, Portland General Electric Company, NorthWestern Corporation.

Description: Tariff Amendment: Avista Corporation submits tariff filing per 35.17(b): First Amendment Amended and Restated Colstrip Project to be effective 11/9/2022.

Filed Date: 2/10/23.

Accession Number: 20230210-5171.

Comment Date: 5 p.m. ET 3/3/23.

Docket Numbers: ER23-659-001.

Applicants: Upper Missouri G. & T. Electric Cooperative, Inc.

Description: Tariff Amendment: Amendment to Revisions to FERC Elec. Tariff No. 1—Formula Rate 02.10.23 to be effective 1/1/2023.

Filed Date: 2/10/23.

Accession Number: 20230210-5038.

Comment Date: 5 p.m. ET 3/3/23.

Docket Numbers: ER23-771-001.

Applicants: Midcontinent Independent System Operator, Inc.

Description: Tariff Amendment: 2023-02-10_SA 3392 Entergy Arkansas-New Madrid Solar Sub 1st Rev GIA (J944) to be effective 12/20/2022.

Filed Date: 2/10/23.

Accession Number: 20230210-5047.

Comment Date: 5 p.m. ET 3/3/23.

Docket Numbers: ER23-800-001.

Applicants: The Dayton Power and Light Company.

Description: Tariff Amendment: Amendment of Union Facilities Agreement Filing in Docket ER23-800 to be effective 3/11/2023.

Filed Date: 2/10/23.

Accession Number: 20230210-5072.

Comment Date: 5 p.m. ET 3/3/23.

Docket Numbers: ER23-979-000.

Applicants: PJM Interconnection, L.L.C.

Description: § 205(d) Rate Filing: ISA, SA No. 6771; Queue No. AE2-019 to be effective 1/11/2023.

Filed Date: 1/30/23.

Accession Number: 20230130-5167.

Comment Date: 5 p.m. ET 2/21/23.

Docket Numbers: ER23-1082-000.

Applicants: Midcontinent Independent System Operator, Inc.

Description: § 205(d) Rate Filing: 2023-02-10_SA 3438 Entergy Arkansas-Long Lake Solar 2nd Rev GIA (J663 J834) to be effective 2/3/2023.

Filed Date: 2/10/23.

Accession Number: 20230210-5001.

Comment Date: 5 p.m. ET 3/3/23.

Docket Numbers: ER23-1083-000.

Applicants: Midcontinent Independent System Operator, Inc., American Transmission Company LLC.

Description: § 205(d) Rate Filing: Midcontinent Independent System Operator, Inc. submits tariff filing per 35.13(a)(2)(iii: 2023-02-10_SA 2794 ATC-City of Gladstone 2nd Rev CFA to be effective 4/12/2023.

Filed Date: 2/10/23.

Accession Number: 20230210-5002.

Comment Date: 5 p.m. ET 3/3/23.

Docket Numbers: ER23-1084-000.

Applicants: PJM Interconnection, L.L.C.

Description: § 205(d) Rate Filing: Original ISA, Service Agreement No. 6777; Queue No. AE1-103 to be effective 1/11/2023.

Filed Date: 2/10/23.

Accession Number: 20230210-5012.

Comment Date: 5 p.m. ET 3/3/23.

Docket Numbers: ER23-1085-000.

Applicants: American Transmission Company LLC, Midcontinent Independent System Operator, Inc.

Description: § 205(d) Rate Filing: American Transmission Company LLC submits tariff filing per 35.13(a)(2)(iii: 2023-02-10_SA 2766 ATC-City of Elkhorn 2nd Rev CFA to be effective4/12/2023.

Filed Date: 2/10/23.

Accession Number: 20230210-5014.

Comment Date: 5 p.m. ET 3/3/23.

Docket Numbers: ER23-1086-000.

Applicants: PJM Interconnection, L.L.C.

Description: § 205(d) Rate Filing: Original ISA, Service Agreement No. 6775; Queue No. AD1-151 to be effective 1/11/2023.

Filed Date: 2/10/23.

Accession Number: 20230210-5015.

Comment Date: 5 p.m. ET 3/3/23.

Docket Numbers: ER23-1087-000.

Applicants: American Electric Power Service Corporation, AEP Appalachian Transmission Company, Inc., AEP Indiana Michigan Transmission Company, Inc., AEP Kentucky Transmission Company, Inc., AEP Ohio Transmission Company, Inc., AEP West Virginia Transmission Company, Inc., PJM Interconnection, L.L.C.

Description: § 205(d) Rate Filing: American Electric Power Service Corporation submits tariff filing per 35.13(a)(2)(iii: AEP submits revisions to PJM OATT Att. H-20B PBOP Rate to be effective 4/12/2023.

Filed Date: 2/10/23.

Accession Number: 20230210-5046.

Comment Date: 5 p.m. ET 3/3/23.

Docket Numbers: ER23-1088-000.

Applicants: Idaho Power Company.

Description: Compliance filing: Interconnection Metrics Filing—Q4 2022 to be effective N/A.

Filed Date: 2/10/23.

Accession Number: 20230210-5073.

Comment Date: 5 p.m. ET 3/3/23.

Docket Numbers: ER23-1089-000.

Applicants: Alabama Power Company, Georgia Power Company, Mississippi Power Company.

Description: Tariff Amendment: Alabama Power Company submits tariff filing per 35.15: Origis Development (4 Notch Solar + Storage) LGIA Termination Filing to be effective 2/10/2023.

Filed Date: 2/10/23.

Accession Number: 20230210-5075.

Comment Date: 5 p.m. ET 3/3/23.

Docket Numbers: ER23-1090-000.

Applicants: Alabama Power Company, Georgia Power Company, Mississippi Power Company.

Description: Tariff Amendment: Alabama Power Company submits tariff filing per 35.15: Origis Development (5 Notch Solar + Storage) LGIA Termination Filing to be effective 2/10/2023.

Filed Date: 2/10/23.

Accession Number: 20230210-5076.

Comment Date: 5 p.m. ET 3/3/23.

Docket Numbers: ER23-1091-000.

Applicants: Alabama Power Company, Georgia Power Company, Mississippi Power Company.

Description: Tariff Amendment: Alabama Power Company submits tariff filing per 35.15: Flowers Creek Affected System Upgrade Agreement Termination Filing to be effective 1/12/2023.

Filed Date: 2/10/23.

Accession Number: 20230210-5077.

Comment Date: 5 p.m. ET 3/3/23.

Docket Numbers: ER23-1092-000.

Applicants: Georgia Power Company.

Description: Tariff Amendment: Flowers Creek Affected System Upgrade Agreement Concurrence Termination Filing to be effective 1/12/2023.

Filed Date: 2/10/23.

Accession Number: 20230210-5078.

Comment Date: 5 p.m. ET 3/3/23.

Docket Numbers: ER23-1093-000.

Applicants: Mississippi Power Company.

Description: Tariff Amendment: Flowers Creek Affected System Upgrade Agreement Concurrence Termination Filing to be effective 1/12/2023.

Filed Date: 2/10/23.

Accession Number: 20230210-5079.

Comment Date: 5 p.m. ET 3/3/23.

Docket Numbers: ER23-1094-000.

Applicants: Alabama Power Company, Georgia Power Company, Mississippi Power Company.

Description: Initial rate filing: Alabama Power Company submits tariff filing per 35.12: Pecan Tree Solar Affected System Upgrade Agreement Filing to be effective 1/12/2023.

Filed Date: 2/10/23.

Accession Number: 20230210-5082.

Comment Date: 5 p.m. ET 3/3/23.

Docket Numbers: ER23-1095-000.

Applicants: Georgia Power Company.

Description: Initial rate filing: Pecan Tree Solar Affected System Upgrade Agreement Concurrence Filing to be effective 1/12/2023.

Filed Date: 2/10/23.

Accession Number: 20230210-5083.

Comment Date: 5 p.m. ET 3/3/23.

Docket Numbers: ER23-1096-000.

Applicants: Mississippi Power Company.

Description: Initial rate filing: Pecan Tree Solar Affected System Upgrade Agreement Concurrence Filing to be effective 1/12/2023.

Filed Date: 2/10/23.

Accession Number: 20230210-5084.

Comment Date: 5 p.m. ET 3/3/23.

Docket Numbers: ER23-1097-000.

Applicants: Florida Power & Light Company.

Description: § 205(d) Rate Filing: FPL Amendment to Rate Schedule No. 329 with Southern Companies to be effective 1/12/2023.

Filed Date: 2/10/23.

Accession Number: 20230210-5087.

Comment Date: 5 p.m. ET 3/3/23.

Docket Numbers: ER23-1098-000.

Applicants: New York Independent System Operator, Inc.

Description: § 205(d) Rate Filing: NYISO 205 filing of tariff revisions re: deliverability rules for ICLs to be effective 2/13/2023.

Filed Date: 2/10/23.

Accession Number: 20230210-5108.

Comment Date: 5 p.m. ET 3/3/23.

Docket Numbers: ER23-1099-000.

Applicants: California Independent System Operator Corporation.

Description: § 205(d) Rate Filing: 2023-02-10 Reconciliation Filing of FERC-Approved Language to be effective 9/28/2019.

Filed Date: 2/10/23.

Accession Number: 20230210-5114.

Comment Date: 5 p.m. ET 3/3/23.

Docket Numbers: ER23-1100-000.

Applicants: PJM Interconnection, L.L.C.

Description: § 205(d) Rate Filing: Original ISA, Service Agreement No. 6779; Queue No. AF1-028 to be effective 1/11/2023.

Filed Date: 2/10/23.

Accession Number: 20230210-5159.

Comment Date: 5 p.m. ET 3/3/23.

Docket Numbers: ER23-1101-000.

Applicants: Vermont Transco LLC.

Description: § 205(d) Rate Filing: Shared Structure Participation Agreement to be effective 2/1/2023.

Filed Date: 2/10/23.

Accession Number: 20230210-5163.

Comment Date: 5 p.m. ET 3/3/23.

Docket Numbers: ER23-1102-000.

Applicants: PJM Interconnection, L.L.C.

Description: § 205(d) Rate Filing: Original ISA, Service Agreement No. 6781; Queue No. AE2-190 to be effective 1/11/2023.

Filed Date: 2/10/23.

Accession Number: 20230210-5165.

Comment Date: 5 p.m. ET 3/3/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2023.
Debbie-Anne A. Reese,
Deputy Secretary.

[FR Doc. 2023-03309 Filed 2-15-23; 8:45 am]

BILLING CODE 6717-01-P